DEPARTMENT OF THE INTERIOR

National Park Service

[NPS-WASO-VRP-USPP- NPS0036081; PPWOUSPPS5, PPMPRLE02.YC0000 (222); OMB Control Number 1024-0245]

Agency Information Collection Activities; Submission to the Office of Management and Budget for Review and Approval; United States Park Police Pre-Employment Suitability Determination Process

AGENCY: National Park Service, Interior.

ACTION: Notice of information collection; request for comment.

SUMMARY: In accordance with the Paperwork Reduction Act of 1995 we, the National Park Service (NPS) are proposing to renew an information collection with revisions.

DATES: Interested persons are invited to submit comments on or before October 16, 2023.

ADDRESSES: Written comments and suggestions on the information collection requirements should be submitted by the date specified above in DATES to https://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0245” in the subject line of your comments.

FOR FURTHER INFORMATION CONTACT: To request additional information about this information collection request (ICR), contact Captain Scott H. Brecht, 1100 Ohio Dr. SW, Washington DC 20242; or by email at scott_brecht@nps.gov; or 202-610-7088 (telephone). Please reference OMB Control Number 1024-0245 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 12, 2022 (87 FR 55847). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The United States Park Police (USPP) collects information from applicants during the Pre-employment Suitability Determination Phase as part of the application process for consideration as a candidate for park police positions. The USPP is authorized by Title 5, CFR, Section 5.2, “Investigation and evaluations,” to collect information as required in the USPP Pre-employment Suitability Process. The USPP uses the forms described below as a part of the application process required to conduct an OPM background investigation.

Form 10-2201, “Personal Qualifications Statement”—provides information on the personal history of the candidate.

Form 10-2201A, “Information Release Form”—authorizes the release of all personal and confidential records, including medical records concerning physical and mental health.

Form 10-2201B, “Release to Obtain a Credit Report”—authorizes the release of information from consumer reporting agencies.

Form 10-2201C, “Lautenberg Certification”—requires information and certification by the applicant regarding a conviction of a misdemeanor crime of domestic violence.

Form 10-2201D, “Physical Efficiency Battery Waiver”—requires the candidate to provide information regarding medical conditions which may impede their ability to meet the minimum efficiency score on the Physical Efficiency Battery (PEB).

Proposed Revisions

Form 10-2201E (Removed)—Physician Consent Form—This form is no longer necessary. The USPP Pre-Employment Physical Efficiency Battery (PEB) does not require a physician to clear or medically qualify the applicant for basic physical activity. Applicants can make the determination themselves if they are medically fit enough to participate in the PEB.

Form 10-2201F (Removed) Applicant Documentation Form—This form is no longer necessary. Applicants defer or decline USPP's offer of employment through email to NPS Human Resources.

Title of Collection: United States Park Police Pre-Employment Suitability Determination Process.

OMB Control Number: 1024-0245.

Form Number: NPS Forms 10-2201, 10-2201A, 10-2201B, 10-2201C, 10-2201D.

Type of Review: Revision of a currently approved collection.

Respondents/Affected Public: Candidates for employment as a United States Park Police Officer.

Total Estimated Number of Annual Respondents: 1,250.

Total Estimated Number of Annual Responses: 1,250.

Estimated Completion Time per Response: 5 minutes to 7 hours (times vary depending upon the activity).

Total Estimated Number of Annual Burden Hours: 1,897.

Respondent's Obligation: Required to obtain or retain a benefit.

Frequency of Collection: On occasion.

Total Estimated Annual Nonhour Burden Cost: $26,750 (printing, notarizing, and providing supporting documentation).

Activity | Total annual responses | Completion time per response | Total annual burden hours *
Form 10-2201—Personal Qualifications Statement | 250 | 7 Hours | 1,750
Form 10-2201A—“Information Release Form” | 250 | 15 Min | 63
Form 10-2201B—Release to Obtain a Credit Report | 250 | 10 Min | 42
Form 10-2201C—Lautenberg Certification | 250 | 5 Min | 21
Form 10-2201D—Physical Efficiency Battery Waiver | 250 | 5 Min | 21
Total | 1,250 |  | 1,897
* Rounded.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-19980 Filed 9-14-23; 8:45 am]

BILLING CODE 4312-52-P